DEPARTMENT OF ENERGY

Federal Energy Regulatory Commission

Combined Notice of Filings #1

Take notice that the Commission received the following electric rate filings:

Docket Numbers: ER10-2719-010; ER10-2718-010; ER10-2578-012; ER10-2633-010; ER10-2570-010; ER10-2717-010; ER10-3140-009.

Applicants: East Coast Power Linden Holding, L.L.C., Cogen Technologies Linden Venture, L.P., Fox Energy Company LLC, Birchwood Power Partners, L.P., Shady Hills Power Company, L.L.C., EFS Parlin Holdings, LLC, Inland Empire Energy Center, LLC.

Description: Supplement to November 6, 2012 Notice of Non-Material Change in Status of East Coast Power Linden Holding, L.L.C., et al.

Filed Date: 11/26/12.

Accession Number: 20121126-5023.

Comments Due: 5 p.m. ET 12/17/12.

Docket Numbers: ER12-1914-002.

Applicants: ISO New England Inc.

Description: Compliance filing-Rel. Review of Rejected List Bids to be effective 8/1/2012.

Filed Date: 11/26/12.

Accession Number: 20121126-5095.

Comments Due: 5 p.m. ET 12/17/12.

Docket Numbers: ER12-1928-001.

Applicants: Midwest Independent Transmission System Operator, Inc.

Description: Midwest Independent Transmission System Operator, Inc. submits tariff filing per 35: G551 Compliance Filing to be effective 6/2/2012.

Filed Date: 11/26/12.

Accession Number: 20121126-5096.

Comments Due: 5 p.m. ET 12/17/12.

Docket Numbers: ER13-413-001.

Applicants: USG Oregon LLC.

Description: USG Oregon Amended Tariff Filing to be effective 1/17/2013.

Filed Date: 11/26/12.

Accession Number: 20121126-5147.

Comments Due: 5 p.m. ET 12/17/12.

Docket Numbers: ER13-453-000.

Applicants: Midwest Independent Transmission System Operator, Inc.

Description: SA 2492 MSCPA-METC Project 1 to be effective 11/27/2012.

Filed Date: 11/26/12.

Accession Number: 20121126-5097.

Comments Due: 5 p.m. ET 12/17/12.

Docket Numbers: ER13-454-000.

Applicants: NDR Energy Group, LLC.

Description: NDR Energy Group, LLC Rate Schedule FERC No. 1 Baseline Filing to be effective 11/26/2012.

Filed Date: 11/26/12.

Accession Number: 20121126-5099.

Comments Due: 5 p.m. ET 12/17/12.

Docket Numbers: ER13-455-000.

Applicants: Tucson Electric Power Company.

Description: TEP Concurrence to Navajo Co-Tenancy Agmt and Navajo Southern Trans. Op. Agmt to be effective 1/22/2013.

Filed Date: 11/26/12.

Accession Number: 20121126-5124.

Comments Due: 5 p.m. ET 12/17/12.

Docket Numbers: ER13-456-000.

Applicants: Tucson Electric Power Company

Description: RS No. 120, TEP Concurrence to Navajo Western Trans. Op. Agmt. to be effective 3/20/2012.

Filed Date: 11/26/12.

Accession Number: 20121126-5129.

Comments Due: 5 p.m. ET 12/17/12.

Docket Numbers: ER13-457-000.

Applicants: Dominion Energy Kewaunee, Inc.

Description: New Baseline Refile to be effective 11/27/2012.

Filed Date: 11/26/12.

Accession Number: 20121126-5135.

Comments Due: 5 p.m. ET 12/17/12.

Docket Numbers: ER13-458-000.

Applicants: Midwest Independent Transmission System Operator, Inc.

Description: J183 Amended GIA to be effective 11/27/2012.

Filed Date: 11/26/12.

Accession Number: 20121126-5154.

Comments Due: 5 p.m. ET 12/17/12.

Docket Numbers: ER13-459-000.

Applicants: Southwest Power Pool, Inc.

Description: 1911R2 Kansas City Power & Light Company LGIA to be effective 10/29/2012.

Filed Date: 11/26/12.

Accession Number: 20121126-5175.

Comments Due: 5 p.m. ET 12/17/12.

Docket Numbers: ER13-460-000.

Applicants: Noble Great Plains Windpark, LLC.

Description: Request for Category 1 Status to be effective 11/27/2012.

Filed Date: 11/26/12.

Accession Number: 20121126-5192.

Comments Due: 5 p.m. ET 12/17/12.

Docket Numbers: ER13-461-000.

Applicants: Pacific Gas and Electric Company.

Description: 2nd Amendment of the Kirkwood Meadows PUD Engineering Agreement to be effective 11/28/2012.

Filed Date: 11/27/12.

Accession Number: 20121127-5000.

Comments Due: 5 p.m. ET 12/18/12.

Docket Numbers: ER13-462-000.

Applicants: Duke Energy Carolinas, LLC.

Description: Joint OATT Attachment C-3 amendment to be effective 1/1/2013.

Filed Date: 11/27/12.

Accession Number: 20121127-5090.

Comments Due: 5 p.m. ET 12/18/12.

Docket Numbers: ER13-463-000.

Applicants: NorthWestern Corporation.

Description: SA 605—NITSA with Bonneville Power Administration to be effective 11/28/2012.

Filed Date: 11/27/12.

Accession Number: 20121127-5091.

Comments Due: 5 p.m. ET 12/18/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 27, 2012.
Nathaniel J. Davis, Sr.,
Deputy Secretary.

[FR Doc. 2012-29198 Filed 12-3-12; 8:45 am]

BILLING CODE 6717-01-P